SOCIAL SECURITY ADMINISTRATION

Privacy Act of 1974; as Amended; Proposed Alteration to an Existing Privacy Act System of Records, Housekeeping Changes, and New Routine Use

AGENCY: Social Security Administration (SSA).

ACTION: Altered system of records and housekeeping changes.

SUMMARY: In accordance with the Privacy Act (5 U.S.C. 552a(e)(4) and (e)(11)), we are issuing public notice of our intent to alter an existing system of records, make housekeeping and other miscellaneous changes, and add a routine use applicable to our system of records entitled the Listing and Alphabetical Name File (Folder) of Vocational Experts, Medical Experts, and Other Health Care Professional and/or Non-Health Care Professional Experts (Medicare) (60-0012). Hereinafter, we will refer to the system as the File (Folder) and Hearing Availability and Scheduling Information of Vocational Experts, Medical Experts, Other Health Care Professional and/or Non-Health Care Professional Experts (Medicare), and Verbatim Hearing Reporters.

We propose the following changes:

• Change the system of records name from the Listing and Alphabetical Name File (Folder) of Vocational Experts, Medical Experts, and Other Health Care Professional and/or Non-Health Care Professional Experts (Medicare) to the File (Folder) and Hearing Availability and Scheduling Information of Vocational Experts, Medical Experts, Other Health Care Professional and/or Non-Health Care Professional Experts (Medicare), and Verbatim Hearing Reporters to more accurately reflect the functions and persons covered by the system of records.

• Expand the category of persons covered by the system of records to include persons who provide verbatim reporter services.

• Expand the category of records we maintain in the system of records to include Social Security number (SSN), employer identification number, primary specialty, business address(es), and telephone numbers; e.g., business, fax and cell phone. The expanded category also will include the blanket purchase agreement number, contract beginning and ending dates, renewal date, termination date, and termination reason.

• Add new routine use number 9 to the system of records to allow us to disclose information to the Department of Treasury to assist in collecting erroneous payments made to persons who provide services in disability and non-disability hearing cases.

• Edit the document to ensure a more reader-friendly document and correct miscellaneous and stylistic format errors.

We discuss the system of records changes in the Supplementary Information section below. We invite public comments on this proposal.

DATES: We filed a report of the system of records with the Chairman of the Senate Committee on Homeland Security and Governmental Affairs, the Chairman of the House Committee on Oversight and Government Reform, and the Administrator, Office of Information and Regulatory Affairs, Office of Management and Budget (OMB), on April 21, 2011. The system of records will become effective on May 30, 2011, unless we receive comments before that date that require further consideration.

ADDRESSES: Interested persons may comment on this publication by writing to the Acting Executive Director, Office of Privacy and Disclosure, Office of the General Counsel, Social Security Administration, Room 3-A-6 Operations Building, 6401 Security Boulevard, Baltimore, Maryland 21235-6401, or through the Federal e-Rulemaking Portal at http://www.regulations.gov. All comments we receive will be available for public inspection at the above address and will be posted to http://www.regulations.gov.

FOR FURTHER INFORMATION CONTACT: Christine W. Johnson, Social Insurance Specialist (Senior Analyst), Disclosure Policy Development and Services Division I, Office of Privacy and Disclosure, Office of the General Counsel, Social Security Administration, 3-A-6 Operations Building, 6401 Security Boulevard, Baltimore, Maryland 21235-6401, telephone: (410) 965-8563, or e-mail: chris.w.johnson@ssa.gov.

SUPPLEMENTARY INFORMATION:

I. Background and Purpose of the System of Records

A. General Background

This system of records allows us to collect, maintain, and use information about persons who have contracted with the Office of Disability Adjudication and Review, under a Blanket Purchase Agreement, to provide expert witness and hearing reporter services in disability and non-disability hearing cases.

B. Discussion of the System of Records

The proposed alteration brings together information on all external experts and verbatim hearing reporters who are recognized providers of service and are approved to do business with us. It also allows us to implement an automated scheduling process that will give us real-time access to information concerning participant availability for hearings.

The current process for scheduling a hearing is a very complex and time-consuming activity. For example, in addition to securing the hearing site, the scheduler manually coordinates the calendars and availability for the administrative law judge, expert witness, hearing reporter, appointed representative, and the interpreter.

In the automated scheduling process, approved external experts and verbatim hearing reporters who register through the Integrated Registration Electronic Services and Automated Scheduling Registration processes will have the ability to access the automated scheduling calendar(s) to provide information about their availability for hearings. Appointed representatives will have access to automated scheduling through the Appointed Representative Suite of Services facility.

Thus, in addition to real-time access to essential information, the automated scheduling process will enable us to schedule hearings in a more timely and efficient manner and ultimately save significant resource time.

C. Discussion of New Routine Use

Routine use number 9 will allow us to disclose information to the Department of Treasury to assist in collecting erroneous payments made to persons for services provided in disability and non-disability hearings.

Accordingly, we are establishing routine use number 9 in the File (Folder) and Hearing Availability and Scheduling Information of Vocational Experts, Medical Experts, Other Health Care Professional and/or Non-Health Care Professional Experts (Medicare), and Verbatim Hearing Reporters system of records.

9. We will disclose information under this routine use to the Department of Treasury for the purpose of, and to the extent necessary, to assist in collecting erroneous payments made to persons who provide services in disability and non-disability hearing cases.

We will disclose information under this routine use to assist in collecting erroneous payments to persons who fail to return such payments. For example, we will disclose the person's name, SSN, and the date and amount of the erroneous payment. In these situations, the Department of Treasury serves as collector of the debt.

II. Compatibility of Proposed Routine Use

New routine use number 9 will allow us to release payment information to the Department of Treasury to assist in collecting erroneous payments made to persons who provide services in disability and non-disability hearing cases. The routine use will improve our ability to recoup erroneous payments. In accordance with the Privacy Act (5 U.S.C. 552a(a)(7) and (b)(3)) and our disclosure regulations (20 CFR part 401), we can disclose information maintained in a system of records pursuant to a published routine use when the use is compatible with the purpose for which we collected the information. This routine use meets the relevant regulatory criteria.

III. Records Storage Medium and Safeguards for the Information Covered by the System of Records

We will maintain, in paper and electronic form, information covered by this system of records. We will keep paper records in locked cabinets or in other secure areas. We will safeguard the security of the electronic information covered by the system of records by requiring the use of access codes to enter the computer system that will house the data.

We annually provide all our employees and contractors with appropriate security awareness training that includes reminders about the need to protect personally identifiable information and the criminal penalties that apply to unauthorized access to, or disclosure of, personally identifiable information. See 5 U.S.C. 552a(i)(1). Employees and contractors with access to databases maintaining personally identifiable information must sign a sanction document annually, acknowledging their accountability for inappropriately accessing or disclosing such information.

IV. Effects of the System of Records on the Rights of Individuals

We propose altering the system of records as part of our responsibilities in continuing to expand our business processes. We will adhere to all applicable statutory requirements, including those under the Social Security Act and the Privacy Act, in carrying out our responsibilities. Therefore, we do not anticipate that the proposed alteration to this system of records will have any adverse effect on the privacy or other rights of the persons covered by the system of records.

V. Housekeeping and Other Miscellaneous Changes in the System of Records

We are making housekeeping changes that include changing the system of records name from Listing and Alphabetical Name File (Folder) of Vocational Experts, Medical Experts, and Other Health Care Professional and/or Non-Health Care Professional Experts (Medicare) to the File (Folder) and Hearing Availability and Scheduling Information of Vocational Experts, Medical Experts, and Other Health Care Professional and/or Non-Health Care Professional Experts (Medicare), and Verbatim Hearing Reporters to more accurately reflect the functions and persons covered by the system. The changes also include edits throughout the document to ensure a more reader-friendly document and to correct miscellaneous and stylistic format errors.

Dated: April 21, 2011.
Michael J. Astrue,
Commissioner.

Social Security Administration; Notice of System of Records; Required by the Privacy Act of 1974; as Amended

System Number:

60-0012.

System Name:

File (Folder) and Hearing Availability and Scheduling Information of Vocational Experts, Medical Experts, Other Health Care Professional and/or Non-Health Care Professional Experts (Medicare), and Verbatim Hearing Reporters, Social Security Administration, Office of Disability Adjudication and Review.

Security Classification:

None.

System Location:

Social Security Administration (SSA), Office of Disability Adjudication and Review (ODAR) regional offices for each hearing office in their jurisdiction.

Contact the systems manager at SSA, ODAR, Division of Field Practices and Procedures, 5107 Leesburg Pike, Falls Church, VA. 22041, or access http://www.socialsecurity.gov/foia/bluebook/app_f.htm for hearing office address information. Each hearing office maintains and uses hearing and availability information to facilitate the selection of expert witnesses and verbatim hearing reporters.

Categories of persons covered by the system:

This system covers vocational experts, medical experts, other health care professional and/or non-health care professional experts (Medicare), and verbatim hearing reporters who have contracted with ODAR, under a blanket purchase agreement (BPA), to provide expert witness and hearing reporter services in disability and non-disability hearing cases and who are within the hearing office service area.

Categories of records maintained in the system:

As applicable, this system will contain personally identifiable information and contact information for all vocational experts, medical experts, other health care professional and/or non-health care professional experts (Medicare), and verbatim hearing reporters contracted under a BPA with ODAR to provide expert witness and verbatim reporter services in disability and non-disability cases, and who are within the hearing office service area. For example, the system will contain name, Social Security number (SSN), employer identification number, business address(es), and telephone numbers; e.g., business, fax, and cell phone. The system also will contain business information such as primary specialty, usage records (e.g., documentation of occasions on which each expert and hearing reporter provided services to ODAR), BPA number, contract beginning and ending dates, renewal date, termination date, and termination reason.

Additionally, ODAR regional offices and/or hearing offices will maintain a folder for each expert and verbatim hearing reporter, which may contain a copy of the BPA, professional qualifications, travel orders, invoices, correspondence and other written records, such as reports of contact by telephone or letter.

Authority for maintenance of the system:

Sections 205, 1631(d)(1), (42 U.S.C. 405 and 1383), Titles XI and XVIII of the Social Security Act, and Section 413(b) of the Federal Coal Mine Health and Safety Act (the Coal Act), as amended.

Purpose(s):

The File (Folder) and Hearing Availability and Scheduling Information of Vocational Experts, Medical Experts, Other Health Care Professional and/or Non-Health Care Professional Experts (Medicare), and Verbatim Hearing Reporters system of records enables us to have electronic access to information concerning vocational experts, medical experts, other health care professional and/or non-health care professional experts (Medicare), and verbatim hearing reporters contracted under a BPA with ODAR to provide expert witness and verbatim reporter services in disability and non-disability hearing cases.

We also will use the information maintained in this system of records to carry out our administrative management responsibilities. For example, we will use the information in connection with budgetary planning, service and usage assessment, contract renewals, and to develop statistical or summary reports. Additionally, we will use the information in this system to assist in collecting erroneous payments made to persons who provide services in disability and non-disability hearing cases.

Routine uses of records covered by the system of records, including categories of users and the purposes of such uses:

Routine use disclosures are indicated below; however, we will not disclose any information defined as “return or return information” under 26 U.S.C. 6103 of the Internal Revenue Code (IRC) unless authorized by the IRC, the Internal Revenue Service (IRS), or IRS regulations.

1. To a congressional office in response to an inquiry from that office made at the request of the subject of a record or a third party acting on the subject's behalf.

2. To the Office of the President in response to an inquiry the Office of the President made at the request of the subject of the record or a third party acting on the subject's behalf.

3. To the Department of Justice (DOJ), a court or other tribunal, or another party before such court or tribunal when:

(a) SSA or any of our components; or

(b) any SSA employee in his or her official capacity; or

(c) any SSA employee in his or her individual capacity when DOJ (or SSA) has agreed to represent the employee; or

(d) The United States or any agency thereof, when we determine that the litigation is likely to affect the operations of SSA or any of our components, is a party to litigation or has an interest in such litigation, and we determine that the use of such records by DOJ, a court or other tribunal, or another party before such court or tribunal is relevant and necessary to the litigation. In each case, however, we must determine that such disclosure is compatible with the purpose for which we collected the records.

4. To contractors and other Federal agencies, as necessary, to assist us in efficiently administering our programs. We will disclose information under this routine use only in situations in which we may enter into a contractual or similar agreement with a third party to assist in accomplishing an agency function relating to this system of records.

5. To the General Services Administration and the National Archives and Records Administration (NARA) under 44 U.S.C. 2904 and 2906, as amended by the NARA Act of 1984, information that is not restricted from disclosure by Federal law for their use in conducting records management studies.

6. To student volunteers, persons working under a personal services contract, and others when they need access to information in our records in order to perform their assigned duties.

7. To the Secretary of Health and Human Services or to any State, information required in writing by the Secretary for the purpose of administering any program administered by the Secretary, if records or information of such type were so disclosed under applicable rules, regulations, and procedures in effect before the date of enactment of the Social Security Independence and Program Improvements Act of 1994.

8. To the appropriate Federal, State, and local agencies, entities, and persons when (1) We suspect or confirm a compromise of the security or confidentiality of information; (2) we determine that, as a result of the suspected or confirmed compromise, there is a risk of harm to economic or property interests, risk of identity theft or fraud, or risk of harm to the security or integrity of this system or other systems or programs that rely upon the compromised information; and (3) we determine that disclosing the information to such agencies, entities, and persons will assist us in our efforts to respond to the suspected or confirmed compromise and prevent, minimize, or remedy any harm. We will use this routine use to respond only to those incidents involving an unintentional release of our records.

9. To the Department of Treasury for the purpose of, and to the extent necessary, to assist in collecting erroneous payments made to persons who provide services in disability and non-disability hearing cases.

Policies and practices for storing, retrieving, accessing, retaining, and disposing of records in the system:

Storage:

We will store records in this system in paper and electronic form.

Retrievability:

We will retrieve records alphabetically by name, BPA number, and hearing office.

Safeguards:

We retain paper and electronic files with personal identifiers in secure storage areas accessible only to our authorized employees and contractors. We limit access to data with personal identifiers from this system to only authorized personnel who have a need for the information in the performance of their official duties. We annually provide all of our employees and contractors with appropriate security awareness and training that includes reminders about the need to protect personally identifiable information and the criminal penalties that apply to unauthorized access to, or disclosure of, personally identifiable information. See 5 U.S.C. 552a(i)(l). Employees and contractors with access to databases maintaining personally identifiable information must sign a sanction document annually, acknowledging their accountability for inappropriately accessing or disclosing such information.

Retention and Disposal:

For purposes of records management dispositions authority, we follow the NARA and Department of Defense (DOD) 5015.2 regulations (DOD Design Criteria Standard for Electronic Records Management Software Applications). We will maintain records for 2 years after expiration of the contract at which time we will shred the records.

System manager(s) and address(es):

Social Security Administration, ODAR, 5107 Leesburg Pike, Falls Church, VA 22041.

Notification procedures:

Persons can determine if this system contains a record about them by writing to the system manager at the above address and providing their name, SSN, or other information in this system of records that will identify them. Persons requesting notification by mail must include a notarized statement to us to verify their identity or they must certify in the request that they are the person they claim to be and understand that the knowing and willful request for, or acquisition of, a record pertaining to another person under false pretenses is a criminal offense.

Persons requesting notification of records in person should provide the same information, as well as provide an identity document, preferably with a photograph, such as a driver's license. Persons lacking identification documents sufficient to establish their identity must certify in writing that they are the person they claim to be and that they understand that the knowing and willful request for, or acquisition of, a record pertaining to another person under false pretenses is a criminal offense.

Persons requesting notification by telephone must verify their identity by providing identifying information that parallels the information in the record about which they are requesting notification. If we determine that the identifying information the person provides by telephone is insufficient, the person will be required to submit a request in writing or in person. If a person requests information by telephone on behalf of another person, the subject person must be on the telephone with the requesting person and us in the same telephone call. We will establish the subject person's identity (his or her name, SSN, address, date of birth, and place of birth, along with one other piece of information, such as mother's maiden name) and ask for his or her consent to provide information to the requesting person. These procedures are in accordance with our regulations (20 CFR 401.40 and 401.45).

Record access procedures:

Same as notification procedures. Requesters also should reasonably specify the record contents they are seeking. These procedures are in accordance with our regulations (20 CFR 401.40(c)).

Contesting record procedures:

Same as notification procedures. Requesters also should reasonably identify the record, specify the information they are contesting, and state the corrective action sought and the reasons for the correction with supporting justification showing how the record is incomplete, untimely, inaccurate, or irrelevant. These procedures are in accordance with our regulations (20 C.F.R. § 401.65(a)).

Record source categories:

We obtain information covered by this system of records from the persons covered by the system or our officials.

Exemptions claimed for the system:

None.

[FR Doc. 2011-10487 Filed 4-29-11; 8:45 am]

BILLING CODE P